DEPARTMENT OF COMMERCE

National Oceanic and Atmospheric Administration

[RTID 0648-XA496]

New England Fishery Management Council; Public Meeting

AGENCY: National Marine Fisheries Service (NMFS), National Oceanic and Atmospheric Administration (NOAA), Commerce.

ACTION: Notice of public meeting.

SUMMARY: The New England Fishery Management Council (Council) is scheduling a public meeting affecting New England fisheries in the exclusive economic zone (EEZ). Recommendations from this group will be brought to the full Council for formal consideration and action, if appropriate.

DATES: This webinar will be held on Monday, October 5, 2020 at 4 p.m. Webinar registration URL information: https://attendee.gotowebinar.com/register/5690522839117472784.

ADDRESSES: The meeting will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The New England Fishery Management Council will host a public meeting on Monday, October 5, 2020, from 4 p.m.-6 p.m., focusing on the recreational Northeast Multispecies (groundfish) fishery. The purpose of the meeting is for Tidal Bay Consulting, LLC to announce the development of a “strawman” for a potential limited entry program for party/charter vessels participating in the recreational groundfish fishery and solicit feedback from the public. There will be an opportunity for the public to ask questions and solicit feedback on a draft limited entry template. The draft template is based on stakeholder feedback received at listening sessions held by the Council in April and May of 2019, and input from the Recreational Advisory Panel.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: September 14, 2020.
Tracey L. Thompson,
Acting Deputy Director, Office of Sustainable Fisheries, National Marine Fisheries Service.

[FR Doc. 2020-20549 Filed 9-17-20; 8:45 am]

BILLING CODE 3510-22-P